DEPARTMENT OF ENERGY

Federal Energy Regulatory Commission

[Project No. 469-013]

Notice Extending Deadline for Soliciting Comments, Recommendations, Terms and Conditions, and Prescriptions

November 18, 2002.

Take notice that the following hydroelectric application has been filed with the Commission and is available for public inspection.

a. Type of Application: New Major License.

b. Project No.: 469-013.

c. Date filed: October 30, 2001.

d. Applicant: ALLETE, Inc., d.b.a. Minnesota Power Inc.

e. Name of Project: Winton Hydroelectric Project.

f. Location: On the Kawishiwi River, near the Town of Ely, in Lake and St. Louis Counties, Minnesota. The project occupies federal lands within the Superior National Forest.

g. Filed Pursuant to: Federal Power Act 16 U.S.C. 791 (a)—825(r)

h. Applicant Contact: John Paulson, Minnesota Power, 30 West Superior Street, Duluth, MN 55802, jpaulson@mnpower.com, 218-722-5642, ext. 3569.

i. FERC Contact: Tom Dean, thomas.dean@ferc.gov, 202-502-6041.

j. In letters dated October 17, 2002, from the U.S. Forest Service, October 18, 2002, from the Minnesota Department of Natural Resources and the Conservationists With Common Sense, and October 21, 2002, from Minnesota Power requested an extension of time until February 14, 2002, to complete a Settlement Agreement (SA) and accompanying Explanatory Statement (ES), and to file comments, recommendations, terms and conditions, and prescriptions in response to a notice ready for environmental analysis (REA) issued on September 13, 2002. The REA notice set the deadline for filing comments and recommendations 60 days from the issuance date of the notice, or November 11, 2002.

The Commission is committed to processing license applications in a timely manner and can not suspend processing the application (including extending the REA comment deadline date) until February 2003, in hopes that the collaborative team will reach a settlement.

The Commission's goal is to issue a draft and final EA during the spring and summer of 2003, respectively, and be ready for a Commission decision on the application by September 2003, prior to the October 31, 2003, license expiration date. The requests to file the SA and ES by February 14, 2003, could delay taking final action on the license application beyond the license expiration date. Therefore, a limited extension of time is granted to file the SA, ES, and comments, recommendations, terms and conditions, and prescriptions.

k. Deadline for filing comments, recommendations, terms and conditions, and prescriptions: December 27, 2002.

All documents (original and eight copies) should be filed with: Magalie R. Salas, Secretary, Federal Energy Regulatory Commission, 888 First Street, NE., Washington, DC 20426.

The Commission's rules of practice require all intervenors filing documents with the Commission to serve a copy of that document on each person on the official service list for the project. Further, if an intervenor files comments or documents with the Commission relating to the merits of an issue that may affect the responsibilities of a particular resource agency, they must also serve a copy of the document on that resource agency.

Comments, recommendations, terms and conditions, and prescriptions may be filed electronically via the Internet in lieu of paper. The Commission strongly encourages electronic filings. See 18 CFR 385.2001(a)(1)(iii) and the instructions on the Commission's web site http://www.ferc.gov under the “e-Filing” link.

l. A copy of the application is available for review at the Commission in the Public Reference Room or may be viewed on the Commission's website at http://www.ferc.gov using the “FERRIS” link. Enter the docket number excluding the last three digits in the docket number field to access the document. For assistance, please contact FERC Online Support at FERCOnlineSupport@ferc.gov or toll-free at (866) 208-3676, or for TTY, (202) 502-8659. A copy is also available for inspection and reproduction at the address in item h above.

m. All filings must (1) bear in all capital letters the title “COMMENTS”, “REPLY COMMENTS”, “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b), and 385.2010.

Linwood A. Watson, Jr.,
Deputy Secretary.

[FR Doc. 02-29748 Filed 11-21-02; 8:45 am]

BILLING CODE 6717-01-P